DEPARTMENT OF COMMERCE

International Trade Administration

[A-570-879, A-588-861]

Polyvinyl Alcohol From the People's Republic of China and Japan: Final Results of the Expedited Sunset Reviews of the Antidumping Duty Orders

AGENCY: Enforcement and Compliance, International Trade Administration, Department of Commerce.

SUMMARY: As a result of these sunset reviews, the Department of Commerce (Commerce) finds that revocation of the antidumping duty orders on polyvinyl alcohol (PVA) from the People's Republic of China (China) and Japan would be likely to lead to continuation or recurrence of dumping as indicated in the “Final Results of Review” section of this notice.

DATES: Applicable July 15, 2020.

FOR FURTHER INFORMATION CONTACT: Laurel LaCivita at (202) 482-4243, AD/CVD Operations, Office III, Enforcement and Compliance, International Trade Administration, U.S. Department of Commerce, 1401 Constitution Avenue NW, Washington, DC 20230.

SUPPLEMENTARY INFORMATION:

Background

On April 1, 2020, Commerce published the Notice of Initiation of the sunset reviews of the antidumping duty orders on PVA from China and Japan pursuant to section 751(c) of the Tariff Act of 1930, as amended (the Act).¹

¹ See Initiation of Five-Year (Sunset) Reviews, 85 FR 18189 (April 1, 2020) (Notice of Initiation).

Commerce received notices of intent to participate from Sekisui Specialty Chemical America, LLC (Sekisui Specialty Chemical) and Kuraray America, Inc. (Kuraray) (collectively, domestic interested parties) within the deadline specified in 19 CFR 351.218(d)(1)(i). The companies claimed interested party status under section 771(9)(C) of the Act as producers of a domestic like product in the United States.

Commerce received complete substantive responses to the Notice of Initiation from the domestic interested parties within the 30-day deadline specified in 19 CFR 351.218(d)(3)(i). We received no substantive responses from any other interested parties with respect to any of the orders covered by these sunset reviews, nor was a hearing requested. As a result, pursuant to section 751(c)(3)(B) of the Act and 19 CFR 351.218(e)(1)(ii)(C)(2), Commerce conducted expedited (120-day) sunset reviews of the antidumping duty orders for China and Japan.

Scope of the Orders

The merchandise covered by these orders is PVA. This product consists of all PVA hydrolyzed in excess of 80 percent, whether or not mixed or diluted with commercial levels of defoamer or boric acid, except as noted below.²

² For a full description of the scope of the order, see Memorandum, “Decision Memorandum for the Expedited Sunset Reviews of the Antidumping Duty Orders on Polyvinyl Alcohol from China and Japan,” dated concurrently with, and hereby adopted by, this notice (Decision Memorandum).

The merchandise subject to these orders is currently classifiable under subheading 3905.30.00 of the Harmonized Tariff Schedule of the United States (HTSUS). Although the HTSUS subheading is provided for convenience and customs purposes, the written description of the scope of these orders is dispositive.

Analysis of Comments Received

All issues raised in these reviews are addressed in the Decision Memorandum, which is hereby adopted by this notice. The issues discussed in the Decision Memorandum include the likelihood of continuation or recurrence of dumping and the magnitude of the margins of dumping likely to prevail if the orders were revoked. The Decision Memorandum is a public document and is on file electronically via Enforcement and Compliance's Antidumping and Countervailing Duty Centralized Electronic Service System (ACCESS). ACCESS is available to registered users at http://iaaccess.trade.gov. In addition, a complete version of the Decision Memorandum can be accessed directly at http://enforcement.trade.gov/frn/index.html. The signed and electronic versions of the Decision Memorandum are identical in content.

Final Results of Reviews

Pursuant to sections 751(c)(1) and 752(c)(1) and (3) of the Act, Commerce determines that revocation of the antidumping duty orders on PVA from China and Japan would be likely to lead to continuation or recurrence of dumping, and that the margins of dumping likely to prevail would be weighted-average margins of up to 97.86 percent for China and 144.16 percent for Japan.

Administrative Protective Order

This notice serves as the only reminder to parties subject to administrative protective orders (APO) of their responsibility concerning the destruction of proprietary information disclosed under APO in accordance with 19 CFR 351.305(a). Timely notification of the destruction of APO materials or conversion to judicial protective orders is hereby requested. Failure to comply with the regulations and terms of an APO is a violation which is subject to sanction.

Notifications to Interested Parties

We are issuing and publishing these results in accordance with sections 751(c), 752(c), and 777(i)(1) of the Act, and 19 CFR 351.221(c)(5)(ii).

Dated: July 9, 2020.
Joseph A. Laroski Jr.,
Deputy Assistant Secretary for Policy and Negotiations.

Appendix

I. Summary

II. Background

III. Scope of the Orders

IV. History of the Proceedings

V. Legal Framework

VI. Discussion of the Issues

1. Likelihood of Continuation or Recurrence of Dumping

2. Magnitude of the Margins of Dumping Likely to Prevail

VII. Final Results of Review

VIII. Recommendation

[FR Doc. 2020-15282 Filed 7-14-20; 8:45 am]

BILLING CODE 3510-DS-P